DEPARTMENT OF THE INTERIOR

Bureau of Land Management

[CA-680-5101-ER-B124; CACA-41418]

Notice

AGENCY: Bureau of Land Management, Interior.

ACTION: Supplemental notice of availability, plan amendment approved.

SUMMARY: Notice is hereby given that the Bureau of Land Management (BLM) has approved a proposal to amend the California Desert Conservation Area Plan (CDCA) to partially exempt the proposed Level 3 Communications, L.L.C., fiber optic cable right-of-way from a designated Energy Production and Utility Corridor for a portion of the proposed alignment. The exemption allows the segment to deviate from the Corridor for 12.5 miles. Please see Federal Register, Notice of Intent dated July 25, 2000 (Volume 65, Number 143), for more detailed information.

By publication of this Notice the protest period for this plan amendment is initiated. This decision will become effective 30 days after publication of this Notice. In accordance with 43 CFR 1610-5-2, any person who participated in the planning process and believes they will be adversely affected by this plan amendment may protest. The protest may raise only those issues which were submitted for the record during the planning process. The protest must be in writing and filed at the following address within 30 days from the date of publication of this Notice, Director, Bureau of Land Management, Attention: Ms. Brenda Williams, Protest Coordinator, WO-210/LS-1075, Department of the Interior, Washington, D.C., 20240. Protest filed late will be rejected.

In order to be considered complete, your protest must contain, at a minimum, the following information:

1. The name, mailing address, telephone number, and interest of the person filing the protest.

2. A statement of the issue or issues being protested.

3. A statement of the part or parts of the proposed plan amendment being protested. To the extent possible, this should be done by reference to specific pages, paragraphs, sections, tables, maps, etc., included in the document.

4. A copy of all documents addressing the issue or issues that you submitted during the planning process or a reference to the date the issue or issues were discussed by you for the record.

For further information, contact Becki Gonzales, Realty Specialist, at the Bureau of Land Management, Barstow Field Office, 2601 Barstow Road, Barstow, CA 92311, or telephone (760) 252-6029.

Dated: March 26, 2001.
Harold Johnson,
Acting Field Manager.

[FR Doc. 01-8078 Filed 4-2-01; 8:45 am]

BILLING CODE 4310-40-U